DEPARTMENT OF THE INTERIOR

National Park Service

[NPS-WASO-NAGPRA-NPS0031299; PPWOCRADN0-PCU00RP14.R50000]

Notice of Inventory Completion: U.S. Department of the Interior, National Park Service, Pu`ukoholā Heiau National Historic Site, Kamuela, HI

AGENCY: National Park Service, Interior.

ACTION: Notice.

SUMMARY: The U.S. Department of the Interior, National Park Service, Pu`ukoholā Heiau National Historic Site has completed an inventory of associated funerary objects, in consultation with the appropriate Indian Tribes or Native Hawaiian organizations, and has determined that there is a cultural affiliation between the associated funerary objects and present-day Indian Tribes or Native Hawaiian organizations. Lineal descendants or representatives of any Indian Tribe or Native Hawaiian organization not identified in this notice that wish to request transfer of control of these associated funerary objects should submit a written request to Pu`ukoholā Heiau National Historic Site. If no additional requestors come forward, transfer of control of the associated funerary objects to the lineal descendants, Indian Tribes, or Native Hawaiian organizations stated in this notice may proceed.

DATES: Lineal descendants or representatives of any Indian Tribe or Native Hawaiian organization not identified in this notice that wish to request transfer of control of these associated funerary objects should submit a written request with information in support of the request to Pu`ukoholā Heiau National Historic Site at the address in this notice by February 22, 2021.

ADDRESSES: Daniel K. Kawaiaea, Jr., Superintendent, Pu`ukoholā Heiau National Historic Site, 62-3601 Kawaihae Road, Kamuela, HI 96743, telephone (808) 882-7218, email daniel_kawaiaea@nps.gov.

SUPPLEMENTARY INFORMATION: Notice is here given in accordance with the Native American Graves Protection and Repatriation Act (NAGPRA), 25 U.S.C. 3003, of the completion of an inventory of associated funerary objects under the control of the U.S. Department of the Interior, National Park Service, Pu`ukoholā Heiau National Historic Site, Kawaihae, HI. The associated funerary objects were removed from Kawaihae, Hawaii County, HI.

This notice is published as part of the National Park Service's administrative responsibilities under NAGPRA, 25 U.S.C. 3003(d)(3). The determinations in this notice are the sole responsibility of the Superintendent, Pu`ukoholā Heiau National Historic Site.

Consultation

A detailed assessment of the associated funerary objects was made by Pu`ukoholā Heiau National Historic Site professional staff in consultation with representatives of the Office of Hawaiian Affairs; Robertson Ohana; Queen Emma Land Company; and the Waimea Hawaiian Civic Club. The Akau Ohana; Hawaii Island Burial Council; Hawaii State Historic Preservation Division; Kahaialii Ohana; Kalahiki Ohana; Laau Ohana; Na Aikane o Pu`ukohola Heiau; Na Papa Kanaka o Pu`ukohola Heiau; Napaepae-Kunewa Ohana; and the Soo Ohana were invited to consult but did not participate (hereafter referred to as “The Consulted and Invited Native Hawaiian Organizations”).

History and Description of the Remains

In 1978, 35 cultural items were removed from the John Young Homestead in Hawaii County, HI, during archeological investigations at the upper portion of the site. The items were recovered from a burial crypt within Structure 2. No human remains were removed. The items were identified as parts of a coffin made exclusively for burial purposes or to contain human remains. They were accessioned and cataloged into the park's museum collection on May 8, 1986. The 35 associated funerary objects are four square cut nails and 31 coffin fragments.

The upper portion of John Young Homestead is a post-contact period site with a use period dating from 1798 to at least 1835, the time of John Young's death. The burials were those of a juvenile and infant, with the infant placed in a wood coffin. Because of John Young's marriage to several Native Hawaiian women, and children of Native Hawaiian descent, these items are considered to have a Native Hawaiian affiliation.

Determinations Made by Pu`ukoholā Heiau National Historic Site

Officials of Pu`ukoholā Heiau National Historic Site have determined that:

• Pursuant to 25 U.S.C. 3001(3)(A), the 35 objects described in this notice are reasonably believed to have been placed with or near individual human remains at the time of death or later as part of the death rite or ceremony and are reasonably believed to have been made exclusively for burial purposes or to contain human remains.

• Pursuant to 25 U.S.C. 3001(2), there is a relationship of shared group identity that can be reasonably traced between the associated funerary objects and the Akau Ohana; Hawaii Island Burial Council; Kahaialii Ohana; Kalahiki Ohana; Laau Ohana; Na Aikane o Pu`ukohola Heiau; Na Papa Kanaka o Pu`ukohola Heiau; Napaepae-Kunewa Ohana; Office of Hawaiian Affairs; Queen Emma Land Company; Robertson Ohana; Soo Ohana; and the Waimea Hawaiian Civic Club (hereafter referred to as “The Native Hawaiian Organizations).

Additional Requestors and Disposition

Lineal descendants or representatives of any Indian Tribe or Native Hawaiian organization not identified in this notice that wish to request transfer of control of these associated funerary objects should submit a written request with information in support of the request to Daniel K. Kawaiaea, Jr., Superintendent, Pu`ukoholā Heiau National Historic Site, 62-3601 Kawaihae Road, Kamuela, HI 96743, telephone (808) 882-7218, email daniel_kawaiaea@nps.gov, by February 22, 2021. After that date, if no additional requestors have come forward, transfer of control of the associated funerary objects to The Native Hawaiian Organizations may proceed.

The Pu`ukoholā Heiau National Historic Site is responsible for notifying The Consulted and Invited Native Hawaiian Organizations that this notice has been published.

Dated: December 15, 2020.
Melanie O'Brien,
Manager, National NAGPRA Program.

[FR Doc. 2021-01339 Filed 1-21-21; 8:45 am]

BILLING CODE 4312-52-P